DEPARTMENT OF STATE

[Public Notice 4193]

Advisory Commission on Public Diplomacy; Notice of Meeting

The Department of State announces the meeting of the U.S. Advisory Commission on Public Diplomacy on Thursday, December 12, 2002, in Room 600, 301 4th St., SW., Washington, DC from 8:30 a.m. to 11 a.m.

The Commission, reauthorized pursuant to Public Law 106-113 (H.R. 3194, Consolidated Appropriations Act, 2000), will have an organizational meeting as well as discuss potential areas of examination for the remainder of the Commissioners' terms of office.

Members of the general public may attend the meeting, though attendance of public members will be limited to the seating available. Access to the building is controlled, and individual building passes are required for all attendees.

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Harold Pachios of Maine, who is the chairman; Charles Dolan of Virginia, who is the vice chairman; Penne Percy Korth of Washington, DC and Maria Elena Torano of Florida.

For more information, please contact Matt Lauer at (202) 619-4457.

Dated: November 20, 2002.
Matthew Lauer,
Executive Director, U.S. Advisory Commission on Public Diplomacy, Department of State.

[FR Doc. 02-30114 Filed 11-26-02; 8:45 am]

BILLING CODE 4710-11-P